DEPARTMENT OF HEALTH AND HUMAN SERVICES

Administration for Children and Families

Health Resources and Services Administration

Advisory Committee on the Maternal, Infant and Early Childhood Home Visiting Program Evaluation; Notice of Meeting

ACTION: Notice of Meeting: Advisory Committee on the Maternal, Infant and Early Childhood Home Visiting Program Evaluation (MIECHVE).

Authority: Section 10(a)(2) of the Federal Advisory Committee Act (Pub. L. 92-463), notice is hereby given of the following meeting:

Name: Advisory Committee on the Maternal, Infant, and Early Childhood Home Visiting Program Evaluation.

Date and Time: September 12, 2013, 2-6 PM ET.

Place: Webinar.

The Advisory Committee on the Maternal, Infant and Early Childhood Home Visiting Program Evaluation (Committee) will meet for its fourth session on September 12, 2013, 2-6 PM ET. The purpose of the meeting is to allow the Committee to comment on the progress of the analysis plan of the MIHOPE project. The general public can join the meeting via webinar by logging onto https://www4.gotomeeting.com/register/330659039, and then follow the instructions for registering. Participants should launch the webinar no later than 1:40 a.m. EST in order for the logistics to be established for participation in the call. If there are technical problems gaining access to the call or webinar, please call 888-569-3848 or press *0 during the call, and for GoToWebinar technical support call (800 263 6317)

Meeting Registration: General public participants are asked to register for the conference by going to the registration Web site at https://www4.gotomeeting.com/register/330659039.

Special Accommodations: Attendees with special needs requiring accommodations such as large print materials or other accommodations may make requests when registering at the online Web site by answering the “Special accommodations” question on the registration page: https://www4.gotomeeting.com/register/330659039.

Agenda: The meeting will include updates on the progress of the evaluation, the outline for the report, and the plan for analyzing the states' needs assessment and baseline family, staff and program data that will be the focus of the report. Agenda items are subject to change as priorities dictate.

Public Comments: Members of the public may submit written comments that will be distributed to Committee members prior to the meeting. Written comments must be received by Monday, September 9, 2013 for consideration. Comments can be submitted to T'Pring Westbrook at Tpring.Westbrook@acf.hhs.gov.

FOR FURTHER INFORMATION CONTACT: Any person interested in obtaining other information relevant to joining the webinar can contact Carolyn Swaney at Carolyn.Swaney@icfi.com.

SUPPLEMENTARY INFORMATION: The Advisory Committee on the Maternal, Infant and Early Childhood Home Visiting Program Evaluation is authorized by subsection 511(g)(1) of Title V of the Social Security Act (42 U.S.C. 701 et seq.) as amended by section 2951 of the Patient Protection and Affordable Care Act of 2010 (Pub. L. 111-148) (Affordable Care Act). The purpose of the Committee is to advise the Secretary of Health and Human Services on the design, plan, progress, and findings of the evaluation required for the home visiting program under the Affordable Care Act. More specifically, the Committee is to review, and make recommendations on, the design and plan for this evaluation; maintain and advise the Secretary regarding the progress of the evaluation; and comment, if the Committee so desires, on the report submitted to Congress under subsection 511(g)(3) of Title V.

The Department of Health and Human Services has contracted with MDRC, formerly known as Manpower Demonstration Research Corporation, a nonprofit, nonpartisan education and social policy research organization, to conduct the evaluation of the MIECHV program.

As specified in the legislation, the evaluation will provide a state-by-state analysis of the needs assessments and the States' actions in response to the assessments. Additionally, as specified in the legislation, the evaluation will provide an assessment of: (a) The effect of early childhood home visiting programs on outcomes for parents, children, and communities with respect to domains specified in the Affordable Care Act (such as maternal and child health status, school readiness, and domestic violence, among others); (b) the effectiveness of such programs on different populations, including the extent to which the ability to improve participant outcomes varies across programs and populations; and (c) the potential for the activities conducted under such programs, if scaled broadly, to enhance health care practices, eliminate health disparities, improve health care system quality, and reduce costs.

Naomi Goldstein,
Director, Office of Planning, Research, and Evaluation, ACF.
Rebecca Slifkin,
Director, Office of Planning, Analysis and Evaluation, HRSA.

[FR Doc. 2013-20725 Filed 8-27-13; 8:45 am]

BILLING CODE 4184-22-M